DEPARTMENT OF HEALTH AND HUMAN SERVICES

Office of Refugee Resettlement

[C.F.D.A. Number 93.584]

Notice of FY 2012 Refugee Targeted Assistance Formula Awards to States and Wilson/Fish Alternative Project Grantees

AGENCY: Office of Refugee Resettlement, ACF, HHS.

ACTION: Notice of awards.

SUMMARY: The Office of Refugee Resettlement, Administration for Children and Families (ACF), announces the allocation of Refugee Targeted Assistance formula awards to States and Wilson/Fish Alternative Project grantees. The purpose of the Targeted Assistance program is to provide employment and other resettlement services to refugees, Amerasians, asylees, Cuban and Haitian entrants, victims of trafficking, and Iraqis and Afghans with Special Immigrant Visas. The grant allocations are awarded to States on behalf of counties that have had high levels of arrivals of the eligible populations. The awards supplement available refugee resettlement resources to ensure that refugees and other eligible populations become employed and self-sufficient as soon as possible. Awards are determined by the number of the eligible populations residing in each county during the two-year period from October 1, 2009, to September 30, 2011.

Targeted Assistance allocations are available on the ORR Web page. The table of FY 2012 Allocations to Counties and Targeted Assistance Areas and the Table of FY 2012 Allocations to States may be found at: http://www.acf.hhs.gov/programs/orr/policy/fy2012_formula_allocations_targeted_assistance.htm.

DATES: The awards are effective immediately. Funds must be obligated by September 30, 2013, and funds must be expended by September 30, 2014.

FOR FURTHER INFORMATION CONTACT: Henley Portner, Office of the Director, Office of Refugee Resettlement, (202) 401-5363, Henley.Portner@acf.hhs.gov.

Statutory Authority: Section 412(c)(2)(A) of the Immigration and Nationality Act (INA) (8 U.S.C. 1522).

Eskinder Negash,
Director, Office of Refugee Resettlement.

[FR Doc. 2012-21584 Filed 8-31-12; 8:45 am]

BILLING CODE 4184-46-P